DEPARTMENT OF TRANSPORTATION

Federal Highway Administration

Agency Information Collection Activities: Submission for OMB Review

AGENCY: Federal Highway Administration (FHWA), DOT.

ACTION: Notice.

SUMMARY: The FHWA has forwarded the information collection request described in this notice to the Office of Management and Budget (OMB) for review and comment. We published a Federal Register Notice with a 60-day public comment period on this information collection on September 7, 2005 (70 FR 53270). We are required to publish this notice in the Federal Register by the Paperwork Reduction Act of 1995.

DATES: Please submit comments by January 27, 2006.

ADDRESSES: You may send comments to the Office of Information and Regulatory Affairs, Office of Management and Budget, 725 17th Street, NW., Washington, DC 20503, Attention: DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information.

FOR FURTHER INFORMATION CONTACT: Ms. Mary Huie, (202) 366-3039, Department of Transportation, Federal Highway Administration, Office of Infrastructure, 400 Seventh Street, SW., Washington, DC 20590. Office hours are from 7:30 a.m. to 5:00 p.m., Monday through Friday, except Federal holidays.

SUPPLEMENTARY INFORMATION: Title: Highways for LIFE Incentive Funding for Federal-aid Projects Application.

Abstract: Section 1502 of SAFETEA-LU establishes the “Highways for LIFE” Pilot Program. The purpose of the Highways for LIFE pilot program is to advance longer-lasting highways using innovative technologies and practices to accomplish the fast construction of efficient and safe highways and bridges. “Highways for LIFE” is focused on accelerating the rate of adoption of proven technologies. The program will provide funding to States to accelerate technology adoption to construct, reconstruct, or rehabilitate Federal-aid highway projects that incorporate innovative technologies that will improve safety, reduce congestion due to construction and improve quality. Those States interested in participating in the “Highways for LIFE” program will submit an application for project funding. The information to be provided on the application includes a description of the project, the innovative technologies to be used and a description of how these technologies will improve safety, reduce construction congestion and improve quality. The collected information will be used by FHWA to evaluate and select projects for “Highways for LIFE” funding.

Respondents: 50 State Departments of Transportation, the District of Columbia and Puerto Rico.

Frequency: Annually, beginning in 2006 and ending in 2009.

Estimated Total Annual Burden Hours: The estimated average burden to complete the application is 8 hours per respondent. The estimated total number of respondents per year is 30. The estimated total annual burden is 240 hours.

Authority: The Paperwork Reduction Act of 1995; 44 U.S.C. Chapter 35, as amended; and 49 CFR 1.48.

Issued On: December 20, 2005.
James R. Kabel,
Chief, Management Programs and Analysis Division.

[FR Doc. E5-7967 Filed 12-27-05; 8:45 am]

BILLING CODE 4910-22-P